DEPARTMENT OF COMMERCE

National Oceanic and Atmospheric Administration

RIN 0648-XK00

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Executive and Finance Committees, a meeting of its Standard Operating, Policy and Procedure (SOPPs) Committee, Advisory Panel Selection Committee (Closed Session), Joint Ecosystem-based Management and Habitat Committees, Shrimp Committee, Spiny Lobster Committee, Snapper Grouper Committee, Southeast Data, Assessment, and Review (SEDAR) Committee, Allocation Committee, Limited Access Privilege (LAP) Program Committee, Dolphin Wahoo Committee, a joint meeting of its Golden Crab Advisory Panel and Deepwater Shrimp Advisory Panel, and a meeting of the full Council.

The Council will also hold a public comment session regarding: Amendment 7 to the Shrimp Fishery Management Plan (FMP) addressing rock shrimp endorsements and economic reporting for the shrimp fishery; a Generic Import Amendment for the Spiny Lobster FMP addressing requirements for imported spiny lobster; Amendment 16 to the Snapper Grouper FMP addressing measures to end overfishing for gag grouper and vermilion snapper and interim allocations of these two species for commercial and recreational fisheries; and Interim Rule measures to address overfishing of red snapper and other snapper grouper complex species. See SUPPLEMENTARY INFORMATION for additional details.

DATES: The meeting will be held in September 2008. See SUPPLEMENTARY INFORMATION for specific dates and times.

ADDRESSES: The meeting will be held at the Charleston Marriott, 170 Lockwood Boulevard, Charleston, SC 29403; telephone: (800) 968-3569 or (843) 723-3000. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates:

1. Joint Golden Crab Advisory Panel and Deepwater Shrimp Advisory Panel Meeting: September 15, 2008, 1 p.m. until 5:30 p.m. (Concurrent Session)

The Golden Crab and Deepwater Shrimp Advisory Panels will review alternatives for Allowable Golden Crab Fishing Areas and Shrimp Fishery Access Areas within the proposed deepwater Coral Habitat Areas of Particular Concern. In addition the Deepwater Shrimp AP will discuss proposed alternatives in the draft Shrimp Amendment 7 document pertaining to the rock shrimp fishery.

2. Council Session: September 15, 2008, 1 p.m. until 2:30 p.m.

The Council will meet in full session to receive a report from the Allocation Committee from its July 8-9, 2008 meeting. The Council will consider Committee recommendations and take action as appropriate.

3. Joint Executive/Finance Committees Meeting: September 15, 2008, 2:30 p.m. until 4 p.m.

The Executive and Finance Committees will meet to review the status of the Calendar Year 2008 Activities Schedule and budget, the status of the Fiscal Year 2009 budget, and discuss the benefits of establishing a Council Data Collection Improvement Committee.

4. SOPPs Committee Meeting: September 15, 2008, 4 p.m. until 5 p.m.

The SOPPs Committee will receive an update on the status of the Secretarial review of the Council's SOPPs and develop changes to the SOPPs if necessary.

5. Advisory Panel Selection Committee Meeting (Closed Session): September 15, 2008, 5 p.m. until 6 p.m.

The Advisory Panel Selection Committee will meet in Closed Session to review applications and develop recommendations for Council consideration.

6. Joint Ecosystem-based Management and Habitat Committees Meeting: September 16, 2008, 8 a.m. until 12 noon.

The Ecosystem-based Management and Habitat Committees will review the Fishery Ecosystem Plan (FEP) and approve the FEP for a second round of public hearings. The Committees will discuss recommendations from the Joint Golden Crab and Deepwater Shrimp Advisory Panels, Review the Comprehensive Ecosystem Amendment (CEA) addressing the designation of Deepwater Coral Habitat Areas of Particular Concern, and approve the CEA for a second round of public hearings. The Committees will also discuss the proposal for a National Monument off the southeast coast and other habitat-related issues.

7. Shrimp Committee Meeting: September 16, 2008, 1:30 p.m. until 2:30 p.m.

The Shrimp Committee will review advisory panel and public hearing comments received on Amendment 7 to the Shrimp FMP, modify Amendment 7 if necessary, and develop a recommendation for submitting Amendment 7 for formal Secretarial review and approval.

8. Spiny Lobster Committee Meeting: September 16, 2008, 2:30 p.m. until 3:30 p.m.

The Spiny Lobster Committee will review public hearing comments, advisory panel comments, and actions by the Caribbean Fishery Management Council and the Gulf of Mexico Fishery Management Council concerning a three-Council Generic Import Amendment (GIA) to address management issues regarding the import of spiny lobster. The Caribbean Fishery Management Council has administrative lead for this amendment. The Committee will develop recommendations for submitting the GIA for formal Secretarial review and approval. The Committee will also review the status of State of Florida actions on spiny lobster, and develop a timeline for addressing Annual Catch Limit requirements.

9. Snapper Grouper Committee Meeting: September 16, 2008, 3:30 p.m. until 5 p.m. and September 17, 2008, 8 a.m. until 5 p.m.

The Council's Snapper Grouper Committee will receive a report on activities pertaining to the Oculina Bank, review Amendment 16 public hearing comments and comments received on the Supplemental Draft Environmental Impact Statement (SDEIS), modify Amendment 16 as necessary, and develop recommendations for submitting Amendment 16 for formal Secretarial review. The Committee will review the Interim Rule addressing red snapper and species addressed in Amendment 16 (gag, vermilion snapper, black grouper, and red grouper) and develop recommendations for submitting the Interim Rule for formal Secretarial review. The Committee will also review an options paper for Amendment 17, modify the document as appropriate, provide further direction to staff, and discuss and develop comments on the Annual Catch Limit Proposed Rule.

10. SEDAR Committee Meeting: September 17, 2008, 5 p.m. until 6 p.m.

The SEDAR Committee will meet to discuss the SEDAR 16 stock assessment review process for king mackerel in the South Atlantic and Gulf of Mexico and develop recommendations for the SEDAR Steering Committee.

11. Allocation Committee Meeting: September 18, 2008, 8 a.m. until 9 a.m.

The Allocation Committee will discuss future outlook components of an allocation equation and provide guidance to staff.

12. LAPP Committee Meeting: September 18, 2008, 9 a.m. until 10 a.m.

The LAPP Committee will review and discuss the Wreckfish Individual Transferable Quota (ITQ) Program, develop recommendations for appointments to the Golden Tilefish Workgroup, and develop a Workgroup meeting timeline.

13. Dolphin Wahoo Committee Meeting: September 18, 2008, 10 a.m. until 12 noon

The Dolphin Wahoo Committee will review the Dolphin Wahoo FMP, receive a presentation on changes in the recreational harvest, and review recent recreational and commercial catch levels.

14. Council Session: September 18, 2008, 1:30 p.m. until 6 p.m. and September 19, 2008, 8 a.m. until 12:30 p.m.

Council Session: September 18, 2008, 1:30 p.m. until 6 p.m.

From 1:30 p.m. - 2 p.m., the Council will call the meeting to order, adopt the agenda, and approve the June 2008 meeting minutes. The Council will also elect a Chairman and Vice-Chairman.

From 2 p.m. - 2:30 p.m., the Council will hear a report from the Shrimp Committee and approve Amendment 7 for submission to the Secretary of Commerce, and consider other Committee recommendations and take action as appropriate.

Note: A public comment session will be held at 2:00 p.m. regarding Amendment 7 to the Shrimp FMP.

From 2:30 p.m. - 3:00 p.m., the Council will receive a report from the Spiny Lobster Committee and approve the Generic Import Amendment for submission to the Secretary of Commerce, consider other recommendations, and take action as appropriate.

Note: A public comment session will be held at 2:30 p.m. regarding the Spiny Lobster Generic Import Amendment.

From 3 p.m. - 6 p.m., the Council will receive a report from the Snapper Grouper Committee, approve Amendment 16 for submission to the Secretary of Commerce, approve an Interim Rule for submission to the Secretary of Commerce, consider other Committee recommendations, and take action as appropriate.

Note: A public comment session will be held beginning at 3 p.m. regarding Snapper Grouper Amendment 16. The Council will take public comment on the Interim Rule immediately following the public comment on Amendment 16.

Council Session: September 19, 2008, 8 a.m. until 12:30 p.m.

From 8 a.m. - 8:15 a.m., the Council will receive a legal briefing on litigation (Closed Session).

From 8:15 a.m. - 8:45 a.m., the Council will receive a presentation on the Consolidated Atlantic Highly Migratory Species FMP.

From 8:45 a.m. - 9:15 a.m., the Council will receive a presentation on forage fish.

From 9:15 a.m. - 9:30 a.m., the Council will receive a report from the Joint Executive and Finance Committees, consider recommendations, and take action as appropriate.

From 9:30 a.m. - 9:45 a.m., the Council will receive a report from the SOPPs Committee, consider recommendations, and take action as appropriate.

From 9:45 a.m. - 10 a.m., the Council will receive a report from the AP Selection Committee, consider recommendations, and take action as appropriate.

From 10 a.m. - 10:15 a.m., the Council will receive a report from the Joint Habitat and Ecosystem-Based Committees, approve the FEP and the Comprehensive Ecosystem Amendment for a second round of public hearings, consider other recommendations and take action as appropriate.

From 10:15 a.m. - 10:30 a.m., the Council will receive a report from the SEDAR Committee, consider recommendations, and take action as appropriate.

From 10:30 a.m. - 10:45 a.m., the Council will receive a report from the Allocation Committee, consider recommendations, and take action as appropriate.

From 10:45 a.m. - 11 a.m., the Council will receive a report from the LAPP Committee, appoint a Golden Tilefish Workgroup, consider other Committee recommendations and take action as appropriate.

From 11 a.m. - 11:15 a.m., the Council will receive a report from the Dolphin Wahoo Committee, consider recommendations and take action as appropriate.

From 11:15 a.m. - 12:30 p.m., the Council will receive status reports from NOAA Fisheries' Southeast Regional Office, NOAA Fisheries' Southeast Fisheries Science Center, agency and liaison reports, review Experimental Fishing Permit applications as necessary, and discuss other business including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by September 11, 2008.

Dated: August 25, 2008.
Tracey L. Thompson,
Acting Director, Office of Sustainable Fisheries, National Marine Fisheries Service.

[FR Doc. E8-19972 Filed 8-27-08; 8:45 am]

BILLING CODE 3510-22-S